NUCLEAR REGULATORY COMMISSION

[Docket Nos. 50-445 and 50-446; NRC-2013-0182]

Luminant Generation Company LLC, Comanche Peak Nuclear Power Plant, Unit Nos. 1 and 2; Application for Amendment to Facility Operating License

AGENCY: Nuclear Regulatory Commission.

ACTION: License amendment application; withdrawal.

ADDRESSES: Please refer to Docket ID NRC-2013-0182 when contacting the NRC about the availability of information regarding this document. You may access information related to this document, which the NRC possesses and are publicly available, using any of the following methods:

• Federal rulemaking Web site: Go to http://www.regulations.gov and search for Docket ID NRC-2013-0182. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Balwant K. Singal, Senior Project Manager, Plant Licensing Branch IV, Division of Operating Reactor Licensing, Office of Nuclear Reactor Regulation, U.S. Nuclear Regulatory Commission, Washington, DC 20555; telephone: 301-415-3016; email: Balwant.singal@nrc.gov.

SUPPLEMENTARY INFORMATION: The U.S. Nuclear Regulatory Commission (NRC) has granted the request of Luminant Generation Company LLC (the licensee) to withdraw its application dated October 2, 2012 (ADAMS Accession No. ML12285A091), for a proposed amendment to Facility Operating License Nos. NPF-87 and NPF-89 for the Comanche Peak Nuclear Power Plant, Unit Nos. 1 and 2, respectively, located in Somervell County, Texas.

The proposed amendment would have revised Technical Specification (TS) 3.3.1, “Reactor Trip System (RTS) Instrumentation,” and TS 3.3.2, “Engineered Safety Feature Actuation System (ESFAS) Instrumentation,” to relocate the TS requirements for the following instruments to the Technical Requirements Manual, a licensee-controlled document:

• Pressurizer Water Level—High (RTS Function No. 9),

• Trip of all Main Feedwater Pumps (ESFAS Function No. 6.g),

• ESFAS Interlock Reactor Trip, P-4 (ESFAS Function No. 8.a).

The proposed changes would have relocated the TS requirements in their entirety and would not have resulted in deletion or alteration of any RTS or ESFAS requirements. The proposed relocation of the TS requirements for these RTS and ESFAS instrument Functions was based on the application of TS criteria of Title 10 of the Code of Federal Regulations, (10 CFR) paragraph 50.36(c)(2)(ii).

The Commission had previously issued a Notice of Consideration of Issuance of Amendment published in the Federal Register on January 22, 2013 (78 FR 4472). However, by letter dated July 25, 2013 (ADAMS Accession No. ML13218A100), the licensee withdrew the proposed change.

For further details with respect to this action, see the application for amendment dated October 2, 2012, and the licensee's letter dated July 25, 2013, which withdrew the application for license amendment.

Dated at Rockville, Maryland, this 6th day of August 2013.
For the Nuclear Regulatory Commission.
Balwant K. Singal,
Senior Project Manager, Plant Licensing Branch IV, Division of Operating Reactor Licensing, Office of Nuclear Reactor Regulation.

[FR Doc. 2013-19540 Filed 8-12-13; 8:45 am]

BILLING CODE 7590-01-P